DEPARTMENT OF COMMERCE

National Institute of Standards and Technology

Notice of Government Owned Inventions Available for Licensing

AGENCY: National Institute of Standards and Technology, Commerce.

ACTION: Notice of government owned inventions available for licensing.

SUMMARY: The inventions listed below are owned in whole by the U.S. Government, as represented by the Department of Commerce. The inventions are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 02-011]

Title: Superconformal Metal Deposition Using Derivitized Substrates.

Abstract: The invention provides a two-step superconformal process for depositing seam-free and void-free metal microelectronic conductors. The process involves first adsorbing a catalyst on the surface of the specimen by immersion in a catalyst-containing solution, followed by electrolytic metal deposition in a catalyst-free second solution containing supressors.

[NIST Docket Number: 03-012]

Title: System And Method For Authenticating Users Using Image Selection.

Abstract: The invention is a general-purpose mechanism for authenticating users through the selection of a sequence of images from a displayed assembly of images. While specifically aimed at hand-held devices, the visual log-in technique is suitable for most computing platforms that require user authentication. The technique takes the image sequences selected by the user and formulates a password that is dependent on both the sequence and style of their selection. Moreover, the invention allows the same image sequence to be used repeatedly in a password change dialogue, yet generate a completely different password value each time. The invention also introduces a new way of “salting” passwords to make them less vulnerable to attack, which can be readily incorporated into the password derivation process.

Dated: August 18, 2004.
Hratch G. Semerjian,
Acting Director.

[FR Doc. 04-19416 Filed 8-24-04; 8:45 am]

BILLING CODE 3510-13-P